EXPORT-IMPORT BANK

Agency Information Collection Activities: Proposed Collection; Comment Request

AGENCY: Export-Import Bank of the United States.

ACTION: Notice.

SUMMARY: The Export-Import Bank of the United States (Ex-Im Bank) provides working capital guarantees to lenders. In assessing the creditworthiness of an applicant Ex-Im Bank reviews EIB Form 84-1. This form provides information which allows the Bank to obtain legislatively required reasonable assistance of repayment, as well as fulfill other statutory requirements. The form has had no change in content or purpose; it requires only a three-year extension.

DATES: Written comments should be received on or before March 2, 2004 to be assured of consideration.

ADDRESSES: Direct all written comments or requests for additional information to Letitia Kress, Export-Import Bank of the United States, Room 1125, 811 Vermont Avenue, NW., Washington, DC 20571, (202) 565-3613.

FOR FURTHER INFORMATION CONTACT: Solomon Bush (202) 565-3353.

SUPPLEMENTARY INFORMATION: Title: U.S. Small Business Administration, Export-Import Bank of the United States, Joint Application for Working Capital Guarantee.

OMB Number: 3048-0003.

Form Number: EIB-SBA 84-1 (Rev. 8/2000).

Burden Statement

Type of Request: Extension of expiration date.

Annual Number of Respondents: 500.

Estimated Time per Respondent: 2 hours.

Annual Burden Hours: 1,000.

Frequency of Reporting or Use: Upon application for guarantees on working capital loans advanced by the lenders to U.S. exporters.

Dated: December 23, 2003.
Solomon Bush,
Agency Clearance Officer.

BILLING CODE 6690-01-M

[FR Doc. 03-32272 Filed 12-31-03; 8:45 am]

BILLING CODE 6690-01-M